DEPARTMENT OF LABOR

Employment and Training Administration

[SGA/DFA 03-100]

H-1B Technical Skills Training Grants

AGENCY: Employment and Training Administration, Labor.

ACTION: Notice of procedures for grant applications for H-1B technical skills training grants.

SUMMARY: The Employment and Training Administration (ETA), U.S. Department of Labor (DOL), announces the availability of approximately $200 million in grant funds for skill training programs for unemployed and employed workers. These grants are financed by a user fee paid by employers to bring foreign workers into the U.S. under a new H-1B nonimmigrant visa. As part of the H-1B nonimmigrant visa program, this technical skills training program was authorized under the American Competitiveness and Workforce Improvement Act of 1998 (ACWIA), as amended. The grants are a long-term solution to domestic skill shortages in high skill and high technology occupations. H-1B technical skills grants are focused on addressing the high skill technology shortages of American businesses; they are not intended to address labor shortages due to reasons other than technical skill shortages. Grant awards will be made only to the extent that funds are available.

Eligible applicants for these grants will be local Workforce Investment Boards (Local Boards) established under section 117 of the Workforce Investment Act (WIA) and representing a local or regional public-private partnership that is comprised of at least one Local Board, one business or business-related non-profit organization such as a trade association, and one community-based organization, higher education institution or labor union that will carry out such programs or projects through One-Stop delivery systems established under section 121 of WIA, or regional consortia of Local Boards.

This notice describes the application submission requirements, the process that eligible entities must use to apply for funds covered by this solicitation, and how grantees will be selected.

DATES: The grant policies and procedures described in these guidelines are effective immediately, and remain in effect until further notice. Funds are available for obligation by the Secretary of Labor (the Secretary) under 29 U.S.C. 2916. Applications for grant awards will be accepted immediately upon publication of this notice in the Federal Register. It is anticipated that review panels will begin to convene to evaluate applications 60 days after publication.

ADDRESSES: Applications must be mailed to the U.S. Department of Labor, Employment and Training Administration, Division of Federal Assistance, Attention: Ella Freeman, SGA/DFA 03-100, 200 Constitution Avenue, NW., Room S-4203, Washington, DC 20210. Telefacsimile (FAX) applications will not be accepted. Applicants are advised that mail delivery in the Washington area may be delayed due to mail decontamination procedures.

FOR FURTHER INFORMATION CONTACT: Ella Freeman, Grants Management Specialist, Division of Federal Assistance, Telephone (202) 693-3301. (This is not a toll free number.) You must specifically ask for Ella Freeman.

SUPPLEMENTARY INFORMATION: The Employment and Training Administration (ETA), U.S. Department of Labor (DOL), announces the availability of grant funds for technical skills training for employed and unemployed American workers. These grants are financed by a user fee paid by employers to bring foreign workers into the U.S. on a temporary basis to work in high skill or specialty occupations. As part of the H-1B non-immigrant visa program, this technical skills training program was established under the American Competitiveness and Workforce Improvement Act of 1998 (ACWIA 1998) as amended by the American Competitiveness in the Twentieth Century Act of 2000 (ACWIA 2000) and companion legislation. The grants are a long-term solution to domestic skill shortages in high skill and high technology occupations—raising the technical skill levels of American workers so they can take advantage of the new technology-related, high skills employment opportunities. This will, in turn, help businesses reduce their dependence on skilled foreign professionals permitted to work in the U.S. on a temporary basis under the H-1B visa program. H-1B technical skills grants are focused on directly addressing the high skill technology shortages of American businesses; they are not intended to address labor shortages due to reasons other than technical skill shortages. Grant awards will be made only to the extent that funds are available.

The Act creates a two-part eligibility and funding system for the program. Seventy-five (75%) percent of the available grant funds will be awarded to Local Boards established under section 117 of the Workforce Investment Act (WIA) that will carry out such programs or projects through the One-Stop delivery systems established under section 121 of WIA, or regional consortia of Local Boards. Regional consortia of boards may be interstate. Each Local Board or consortium of boards receiving grant funds must represent a local or regional public-private partnership that is comprised of at least (i) One Local Board; (ii) one business or business-related non-profit organization such as a trade association; and (iii) one community-based organization or higher education institution or labor union. This notice governs the process for awarding the 75 percent funds.

The remaining 25 percent of the available funds will be awarded to business partnerships that consist of at least two businesses or a business-related nonprofit organization that represents more than one business. The partnership may also include any educational, labor, community organization, or Local Board. Applicants for the 25 percent funds must explain the barriers they faced in meeting the partnership eligibility criteria for the 75 percent funds—for example, the business partnerships may be on a national, multi-state, regional or rural area basis (such as rural telework programs). The Solicitation for Grant Applications (SGA) governing the competition for the first round of grants for the 25 percent funds was published in the Federal Register in December 2001.

Successful applicants under earlier H-1B training grant solicitations are eligible to apply for grants under this competition. Current awardees are encouraged to indicate how their new proposals can provide a different approach or scope to skills training given program improvements developed under the current award. Consideration will be given to grantees which use grant funds to significantly expand their training program or project through such means as training more workers or offering more courses, or to applicants whose training programs or projects expand as a result of increasing collaborations—especially with more than one small business or with a labor-management training program or project.

ACWIA 2000 provides resources for skill training in high skill and high technology occupations that are in demand by U.S. businesses. One key measure of this demand is determined by the number of employer H-1B applications for foreign workers. For example, the occupation with the most current H-1B demand is information technology (IT). Appendix B to this solicitation provides information on the occupations approved under H-1B petitions by the Immigration and Naturalization Service (INS) for Fiscal Year 2001. Applicants should check the INS Web site (www.ins.gov) or the Department of Labor's Employment and Training Administration's Web site (www.doleta.gov/h-1b/) for the latest INS information on occupations approved under H-1B petitions.

This announcement consists of four parts:

• Part I provides background, basic DOL policies and emphasis, principles of H-1B technical skills grants, and the legislative mandate for technical skills training grants under Section 286(s) of INA, Section 111 of ACWIA 2000, and Section 214(i) of INA.

• Part II describes specific program, administrative and reporting requirements that will apply to all grant awards.

• Part III describes the application process.

• Part IV describes the review process and rating criteria that will be used to evaluate applications for funding.

Part I—Background, DOL Policies and Emphases

A. Background

In response to demands from industries that were experiencing skill shortages in areas such as information technology, Congress enacted the Immigration Act of 1990. This act, implemented in 1992, established the H-1B visa category for non-immigrants who sought to work in high skill or specialty occupations, and set annual limits of 65,000 on the number of H-1B visas granted. In a subsequent effort to help employers access skilled foreign workers and compete internationally, Congress enacted the American Competitiveness and Workforce Improvement Act of 1998 (ACWIA 1998) Pub. L. 105-277 in October 1998. The provisions of ACWIA 1998 created technical skills training grants under the Department of Labor's Employment and Training Administration. ACWIA 1998 was amended by the American Competitiveness in the Twenty-first Century Act of 2000 (ACWIA 2000) Pub.L. 106-313.

High skill and specialty occupations require theoretical and practical application of a body of highly specialized knowledge and sometimes may even require full state licensure to practice in the occupation. These occupations require at least a bachelor's degree or higher and/or experience in the specific specialty. They also may require recognition of expertise in the specialty through progressively responsible positions relative to the specialty occupation.

ACWIA 1998 increased the annual limit on H-1B visas temporarily to 115,000 in fiscal years 1999 and 2000, and to 107,500 in 2001. In addition, a $500 user fee was imposed on employers for H-1B applications. ACWIA 1998 authorized the use of 56.3% of the fee to finance the H-1B Technical Skills Training Grant Program. Grants funded under ACWIA 1998 had the long-term goal of raising the technical skill levels of American workers in order to fill specialty occupations presently being filled by temporary workers admitted to the United States under the provisions of the H-1B visa.

ACWIA 1998 described eligible grant applicants as local Workforce Investment Boards (local Boards) or a consortium of local Boards. Current grantees are local Boards, as established under section 117 of the Workforce Investment Act (WIA), that have been funded to carry out specifically designed high technology skill training programs or projects for employed and unemployed workers through one-stop delivery systems or a regional consortia of local boards, as established under section 121 of the WIA. Regional consortia may be interstate as well as intrastate.

ACWIA 2000, enacted on October 17, 2000, increased the temporary cap to 195,000 H-1B visas annually and extended this higher cap for two additional years, until the end of fiscal year 2003. Separate legislation raised the employer H-1B application fee from $500 to $1,000. ACWIA 2000 authorized the use of 55% of the funds generated by fees to continue the Department of Labor's H-1B Technical Skills Training Grant Program through September 30, 2003.

ACWIA 2000 created two-part eligibility and funding criteria for the new program. Local WIBs are eligible to receive 75% of total funds awarded. These grants provide funds to partnerships consisting of one or more local WIBs, at least one business or business related non-profit (such as a trade association) and one community-based organization (which may be faith-based), higher education institution or labor union. The remaining 25% of funds are made available through grants to eligible partnerships that consist of at least two businesses or a business-related nonprofit organization that represents more than one business. Partnerships may include any educational, labor, community organization, or WIB, but funds may be used only to carry out a strategy that would otherwise not be eligible for funds under the 75% clause due to barriers in meeting partnership eligibility criteria.

The 75 percent funding stream requires a 50 percent match in cash or in kind; the 25 percent portion requires a 100 percent match in cash or in kind. The matching requirement is assessed for the entire Federal grant funding level. Partners cooperating in the proposed project may divide the responsibility for the match among themselves in any way they choose to do so. ACWIA 2000 requires that consideration be given to applicants that provide a specific commitment from other public or private sources, or both, to demonstrate the long-term sustainability of the training program or project after the grant expires.

Eighty percent of the grants are to be awarded to projects that train workers in high technology, information technology, and biotechnology skills. For example, this includes skills needed for software and communications services, telecommunications, systems installation and integration, computers and communications hardware, advanced manufacturing, health care technology, biotechnology and biomedical research and manufacturing, and innovation services. No more than 20 percent may be awarded to projects that train for skills related to any single specialty occupation. A specialty occupation is one that requires at a minimum a college degree or comparable experience. In accordance with ACWIA 2000, the Secretary of Labor must make every effort to fairly distribute grant funds among urban and rural areas and across the different geographic regions of the country.

The technical skills training portion of the law (Section 111) is designed to help both employed and unemployed American workers acquire the requisite technical capabilities in high skill occupations that have shortages. Training generally is aimed at occupations at the H-1B skill levels, which are defined as a bachelor's degree or comparable experience. Under ACWIA 2000, training is not limited to skill levels commensurate with 4-year undergraduate degrees, but can include the preparation of workers for a broad range of positions along a career ladder leading to an H-1B skill level job.

To meet the legislative intent of training American workers to replace foreign workers under the H-1B visa program, technical skills training grants under this SGA must focus on a high level of training and on selected occupations. As shown on Table 1, foreign workers coming to the United States under the H-1B visa program are exceptionally well-educated, nearly 60 percent possess a Bachelor's degree, over 30 percent have a Master's degree, and 10 percent have a Doctorate or Professional degree. With respect to occupations, nearly 60 percent are computer/information technology related occupations, such as programmers, database administrators and systems analysts. The second largest occupational area is architecture, engineering and surveying related occupations. It should be noted that of the education-related area occupations, most are college and university level, not elementary or secondary level. Of the medicine and health related occupations, the largest grouping is physicians and surgeons rather than nurses or other healthcare workers.

ACWIA 2000 requires certain accountability factors. Specifically, the Secretary of Labor is to give consideration to applicants who commit to achieving certain outcome goals for individuals who complete training. These outcome goals are: (1) Hiring or causing the hiring of unemployed trainees; (2) increasing the wages or salary of incumbent workers; or (3) providing skill certifications to trainees or linking the training to industry accepted occupational skill standards, certificates, or licensing requirements. These accountability factors represent a list of possible, desired outcomes or goals rather than contractual requirements. (For example, an applicant may propose a specific goal by designing a technical skills training program that is expected to result in increased wages and the awarding of certifications that document skills acquisition). In accordance with ACWIA 2000, applicants must agree that the project will be subject to evaluation by the Department of Labor and agree to fully cooperate in evaluation studies.

ACWIA 2000 specified that consideration be given to the use of grant funds to demonstrate a significant ability to expand a training program or project through such means as training more workers or offering more courses or projects resulting from collaborations, especially with more than one small business or with a labor management training program or project, or for a partnership that involves and directly benefits more than one small business.

Table 1.—Key Facts About H-1B Visa Approved Petitions, Fiscal Year 2001
| Percent of total
Country of Birth:
India | 48.9
China | 8.3
Canada | 3.9
Philippines | 3.1
United Kingdom | 2.9
All other | 33.8
Age:
Under 20 | 00.0
20-24 | 11.6
25-29 | 41.9
30-34 | 25.8
35-39 | 12.0
40 and over | 8.70
Level of Education:
Less than Associate's degree | 1.2
Associate's degree | 0.6
Bachelor's degree | 56.8
Master's degree | 31.1
Doctorate degree | 7.4
Professional degree | 3.0
Occupational Area:
Computer/information technology | 58.0
Architecture, engineering and surveying | 12.2
Administrative specialties | 7.2
Education | 5.3
Managers and officials | 3.8
Medicine and health | 3.4
Life sciences | 2.0
Social sciences | 1.9
Mathematics/physical sciences | 1.7
All other | 3.2
Source: Report on Characteristics of Specialty Occupation Workers (H-1B), Fiscal Year 2001, U.S. Immigration and Naturalization Service, July 2002.

Forty-three H-1B Technical Skills Training Grants totaling $95.6 million were awarded under the provisions of ACWIA 1998. Under ACWIA 2000, the Department of Labor has awarded, as of October 1, 2002, a total of 45 grants totaling $116.7 million; of these, 31 grants totaling $82.3 million were under the 75 percent funding stream and 14 grants totaling $34.5 million were under the 25 percent funding stream. H-1B grants under earlier SGAs were funded for up to a 24-month period, with the possibility of an additional option year, based on performance, continued demand for training, and availability of funds.

Combining awards made under both ACWIA 1998 and ACWIA 2000, the Department of Labor has awarded a total of 88 H-1B Technical Skills Training Grants totaling $212 million. Because funds are available as they are collected from H-1B user fee revenues, the Department anticipates that additional H-1B Technical Skills Training Grant applications will be funded throughout fiscal year 2003 (October 1, 2002-September 30, 2003). Additional details on the background of the H-1B Technical Skills Training Grants demonstration project can be found at the H-1B Web site http://www.doleta.gov/h-1b. This Web site contains descriptions of current projects, legislative documents and research papers.

B. Principles of H-1B Technical Skills Training Grants

Development, implementation and operation of H-1B Technical Skills Training Grants as envisioned under the authorizing legislation (see Background above) is based on the following principles:

Business Involvement: Businesses are the workforce investment system's customers who generate the demand for all jobs, in particular, the demand for high skill occupations. Businesses are essential partners in formulating, developing and operating H-1B technical skills grant projects. Under WIA, business plays a critical, leadership role in planning and overseeing training and employment activities. WIA requires that the majority of the membership of state and local Workforce Investment Boards are business representatives, and that the state and local board chairs be drawn from business. For the purpose of these grants, it is desirable that businesses represented in the group applying for this grant include those with current high technology skills shortages. Some of these businesses may have in the past utilized foreign workers under the H-1B visa program. Now, they intend to hire, retain, or promote graduates of the H-1B technical skills training program.

Partnership Sustainability: The grant awards under this SGA will not exceed duration of 36 months with an option for a no cost extension of up to 12 additional months. No cost extensions extend the period during which existing grant funds may be spent. ETA intends that regional partnerships sustain themselves over the long term and well after the federal resources from this initiative have been exhausted. In addition, coordination and consultation with the applicable state workforce agency and/or the Governor's office or State Workforce Investment Board is vital to long-term sustainability and will potentially spread high skill training efforts beyond the grantee site. The statutory 50 percent non-federal matching requirement is an integral part of ensuring sustainability because the matching resources are expected to help extend the skill shortages training effort beyond the term of the grant. This partnership sustainability concept relates to two rating criteria: Links with Key Partners and Sustainability (the resources each partner offers and the role of external resources in building the foundation for a long-term partnership).

High Skill Level Focus and Innovative Service Delivery: Training selected employed and unemployed workers to fill current local or regional high skill level shortages is the immediate focus of this initiative. Training investments should be targeted in occupational areas that have been identified on the basis of H-1B occupations as high technology skill shortage areas. H-1B Technical Skills Training Grants are not intended to address lower level skill labor shortages nor are they intended to fund training programs aimed at imparting basic educational skills. In addition, H-1B grants are not intended to address occupational shortages due to reasons other than high technology skill shortages.

Innovative or proven tools and approaches, that may include on-the-job training, distance learning, or combinations of training and educational techniques, to close particular skill gaps and provide strategies for training that promote regional development are hallmarks of successful H-1B technical skills training projects. H-1B grantees should tailor training to the needs of the selected incumbent and unemployed workers, both in content and delivery.

Qualified Target Population: Technical skills training is geared towards employed and unemployed workers who can be trained and placed directly in highly skilled H-1B occupations or in the highest echelons of an H-1B career ladder. Candidates for training funded by H-1B Technical Skills Training Grants should possess (and be identified through appropriate assessment tools) a high level of general educational background and, in addition, have the prerequisites for the occupational training being proposed. Targeted individuals should also possess certain characteristics such as drive and initiative that will help guarantee successful completion of the high skill level training funded by H-1B grants.

Employees at the H-1B skill level are generally characterized as having a Bachelor's degree or comparable work experience. The H-1B technical skill training is not limited to skill levels commensurate with a four-year degree. It may be used to prepare workers for a broad range of positions along a specified career ladder. “Career ladder” may generally be defined as a system of career options which encourage opportunities for professional growth and upward mobility. Technical skills training can include a broad range of positions along a career ladder that directly leads to a high skills level job within a reasonable period of time. Thus, potential trainees are not required to enter training with a four-year degree. Additionally, trainees do not necessarily have to acquire a four-year degree to be successful, although many will have a four-year degree and many others will possess two-year degrees. Career ladders create opportunities for individuals who may vary in experience and education levels (such as specialty training and Associates' degrees) to advance along a defined career ladder and qualify through additional training and education for H-1B level related occupations.

Use of Skill Standards: Skill standards represent a benchmark by which an individual's achieved competence can be measured. Work in this area has been performed by private industry and trade associations, registered apprenticeship training systems, and public and private partnerships. Well-defined skill standards can be useful tools in matching training goals to targeted occupational areas. Applicants are encouraged to survey the progress to date in developing occupational skill standards in their community and in applicable industries.

As noted earlier (In Part IA—Background), the definition of the minimum proficiency level required to be considered an H-1B occupation, contained in section 214 (i), 8 U.S.C. 1184 (i) of the Immigration and Naturalization Act (INA), speaks to a very high skill level for these “specialty occupations.” These are occupations that require “theoretical and practical application of a body of highly specialized knowledge,” and full state licensure, if required for the occupation, to practice in the occupation. The standard for these occupations is either completion of at least a Bachelor's degree or experience in the specialty equivalent to the completion of such a degree and recognition of expertise in the specialty through progressively responsible positions relating to the specialty. Specialized and professionally recognized certificates may also be characteristic of a high level of technical skills.

Comprehensive Local and Regional Planning: H-1B technical skills training applicants must describe the local area or region that will be served with particular emphasis on high technology skills shortages. Applicants are encouraged to ascertain current labor force and industry data to reflect the skills shortages in their region. The proposal also must identify the political jurisdictions to be included and provide an enumeration of the specific local workforce investment areas that are served under WIA. Current data on approved H-1B visa petitions should be utilized to the extent feasible to describe skill shortages in specific occupations. Appendix B to this solicitation is a listing of occupations for which H-1B visa petitions have been recently approved. Requests for H-1B visas for the applicant's region may reflect a skills shortage for those occupations, as well. Applicants may consider surveying local and regional employers to ascertain the extent of employer use of H-1B visas to obtain foreign workers and to obtain information on the specific occupations and skills imported.

Applicants are encouraged to utilize all available state and local data, including that provided by area businesses and business associations, in making determinations of regional shortages. Applicants are encouraged to analyze data made available by their state labor market information (LMI) director, the Bureau of Labor Statistics (BLS), and through the local One-Stop delivery system.

C. DOL Policies and Emphases

Section 111(c)(4)(A) of ACWIA 2000 states that consideration will be given to applicants who, where applicable, commit to provide three target outcomes for participants who complete training. These outcomes are the hiring of unemployed trainees, increased wages or salaries of employed workers, and skill certificates documenting skills acquisition or a link to industry accepted occupational skill standards, certificates, or licensing requirements.

The Employment and Training Administration anticipates that applicants may need to make a range of supportive services available to enhance the quality and effectiveness of the skill training provided under the grant. Grant funds may not be used to provide supportive services. Appropriately focused services, as defined by section 101(46) of WIA—such as transportation or childcare—are considered as important enhancements to the technical skills training package.

Utilizing federal resources through co-enrollment in H-1B technical skills training and WIA is a strongly recommended course of action. While WIA resources cannot be counted toward the matching requirement; co-enrollment allows for much broader and comprehensive service provision. Successful applicants are encouraged to leverage such Federal resources to help make the technical skills training more effective.

In order to provide these resources, applicants should build linkages to the One-Stop Career Center network to reach out, inform, and recruit individuals to participate in H-1B technical skills training. The central role of the Local Boards in the planning and policy activity surrounding these grants is critical. WIA requires the Local Board to prepare a strategic workforce investment plan for the area that it oversees. The Local Board also designates One-Stop center operators and certifies or approves eligible training providers.

As required by ACWIA, ETA will give consideration in awarding grants to any proposal which includes and directly benefits two or more small businesses (100 employees or less).

DOL emphases for this SGA relate to level of training and occupations selected for training. In accordance with the legislative provisions to train American workers to an H-1B visa level, DOL seeks to achieve a higher level of skill training than has occurred to date in some H-1B grants—to a level that clearly prepares individuals to meet the H-1B visa definition of “theoretical and practical application of a body of specialized knowledge* * *'' In addition, since a major objective of H-1B technical skills training grants is to alleviate dependency upon foreign workers in specialty occupations, DOL believes that increased priority is needed in occupations relating to the higher levels of computer science and information technology; architecture, engineering and surveying; biotechnology, biomedical research and manufacturing, and advanced manufacturing technology. Lower level healthcare and other non-H-1B occupations and preparatory or introductory level information technology areas will receive low selection priority under this SGA. DOL anticipates that the focus on a high level of training and on H-1B occupations will result in most participants being enrolled in training programs during the first year of the grant operation, with actual training occurring during the remainder of the grant period.

Part II—Requirements

A. Eligible Participants

Training funded by a grantee may be both for persons who are currently employed and who wish to obtain and upgrade skills and for persons who are unemployed. The aim of the skills training is to place employed and unemployed workers in highly skilled H-1B related occupations. As noted above, eligible participants for H-1B Technical Skills Training Grants, prior to beginning training funded by H-1B training grants, should possess (and be identified as having through appropriate assessment tools) a high level of general educational background and, in addition, have the prerequisites for the occupational training being proposed. H-1B targeted individuals should also possess those characteristics such as drive and initiative that will help guarantee successful completion of the high skill level training funded by H-1B grants.

B. Administrative Requirements

1. General

Grantee organizations will be subject to: ACWIA 2000; these guidelines; the terms and conditions of the grant and any subsequent modifications; applicable Federal laws (including provisions in appropriations law); and any applicable requirements listed below—

a. Workforce Investment Boards—20 Code of Federal Regulations (CFR) Part 667.220, published in the Federal Register on Friday, August 11, 2000 (Administrative Costs).

b. Non-Profit Organizations—Office of Management and Budget (OMB) Circulars A-122 (Cost Principles) and 29 CFR part 95 (Administrative Requirements).

c. Educational Institutions—OMB Circulars A-21 (Cost Principles) and 29 CFR part 95 (Administrative Requirements).

d. State and Local Governments—OMB Circulars A-87 (Cost Principles) and 29 CFR part 97 (Administrative Requirements).

e. Profit Making Commercial Firms—Federal Acquisition Regulation (FAR)—48 CFR part 31 (Cost Principles), and 29 CFR part 95 (Administrative Requirements). In addition, the audit requirements at 20 CFR 627.480 applies to commercial recipients.

f. All entities must comply with 29 CFR parts 93 and 98, and, where applicable, 29 CFR parts 96 and 99.

2. Administrative Costs

ACWIA 2000 Section 111 (c)(6) provides that an entity that receives a grant to carry out a program or project under section 414(c)(1)(A) of ACWIA may not use more than 10 percent of the amount of the grant to pay administrative costs associated with the program or project. Administrative costs are defined at 20 CFR 667.220.

3. Start-up Costs

ACWIA 2000 Section 111 (c)(3) limits the amount of start-up costs of partnerships or new training projects, which may be charged to these grants. Except for partnerships of small businesses, the limit is five (5) percent of any single grant or costs not to exceed $75,000. For partnerships consisting primarily of small businesses, the limit is ten (10) percent of the cost allocable for a single grant or a maximum of $150,000.

C. Reporting Requirements

The grantee is required to provide the reports and documents listed below:

Quarterly Financial Reports. A Quarterly Financial Status Report (SF269) is required until such time as all funds have been expended or the period of availability has expired. Quarterly reports are due 30 days after the end of each calendar year quarter. Grantees must use ETA's On-Line Electronic Reporting System.

Progress Reports. The grantee must submit a quarterly progress report to the GOTR within 30 days following each quarter. Two copies are to be submitted providing a detailed account of activities undertaken during that quarter including:

1. Number completing training this quarter

2. Number completing training overall

3. Number enrolled in training

4. Number expected to complete training by end of project

5. Number new job placements as a result of training

6. Number promotions resulting from the training

7. Number wage increases resulting from training and amount of wage increases resulting from training

8. Number certifications and/or /degrees, by type, awarded as result of training

Note: DOL may require additional data elements to be collected and reported on either a regular basis or special request basis. Grantees must agree to meet DOL reporting requirements.

A narrative section is also required for each quarterly report, including:

1. General overview of project progress, new developments and resolution of previous issues and problems.

2. Explanation of any problems and issues encountered and planned response.

3. Lessons learned in the areas of project administration and management, training delivery, partnership relationships and other related areas.

4. Discussion of the occupational areas for which skills training is being provided, including a listing of the occupations being trained, training delivery, number of students per occupation and other relevant information that provides a reasonable picture of the occupational training being conducted.

Final Report. A draft final report which summarizes project activities and employment outcomes and related results of the demonstration must be submitted no later than 60 days prior to the expiration date of the grant. After responding to DOL questions and comments on the draft report, three copies of the final report must be submitted no later than the grant expiration date. Grantees must agree to use a designated format specified by DOL for preparing the final report.

D. Evaluation

As required by ACWIA 2000, applications must include an agreement that the program or project shall be subject to evaluation by the Secretary of Labor to measure its effectiveness. To measure the impact of these skill training grants, ETA will arrange for or conduct an independent evaluation of the outcomes and benefits of the projects. Grantees must agree to make records on participants, employers and funding available and to provide access to program operating personnel and to participants, as specified by the evaluator(s) under the direction of ETA, including after the period of operation.

E. Matching Funds

Applicants must demonstrate the ability to provide resources equivalent to at least 50 percent of the grant award amount as a match. This statutory match may be provided in-cash or in-kind, and federal resources may not be counted against the matching requirement. At least one-half of the non-Federal matching funds shall be from the business or businesses or business-related nonprofit organizations involved. The amount and nature of the match must be clearly described in the application.

The 50 percent matching requirement is designed to assist grantees in initiating sustainability for the proposed project. The Department is particularly interested that the applicants demonstrate clear evidence that matching resources will sustain training activities after the expiration of the grant. Although matches may be one-time occurrences, applicants are encouraged to seek partnerships that reflect a commitment, financially and non-financially, to the future success of the proposed program.

F. Grantee Data System

The grantee must have a system capable of collecting, storing and retrieving participant and training result information and producing reports needed for administrative, management, and analytical purposes. ETA will be routinely validating data as part of its oversight responsibilities, so grantees must ensure the accuracy and validity of information reported. The grantee must identify the data elements to be routinely collected.

G. Other

The application must include identification of a management entity, the proposed staffing pattern, the resumes of key staff members and detailed descriptions of the roles of various entities participating in the partnership. Each application MUST designate an individual who will serve as project director and who will devote a substantial portion of his/her time to the project, which may be defined as at least 60 percent. The applicant should also include a description of the organizational capacity and track record in high skill training and related activities of the primary actors in the partnership.

Part III—Application Process

A. Eligible Applicants

Section 111(c)(2)(A)(i) of ACWIA 2000 specifies that the Secretary shall, in consultation with the Secretary of Commerce, subject to the availability of funds in the H-1B Nonimmigrant Petitioner Account, award 75 percent of the grants to Local Boards established under section 116(b) or 117 of the WIA, 29 U.S.C. 2831(b) and 2832, or consortia of such Boards in a region. A consortium can cross state lines or involve more than one statewide Local Board.

Each Local Board or consortium of boards receiving grant funds must represent a local or regional public-private partnership consisting of at least one Local Board; one business or business-related non-profit organization such as a trade association and one community-based organization (which may be a faith-based organization), or higher education institution, or labor union.

The activities of the local or regional public-private partnership must be conducted in coordination with the activities of the relevant Local Board or Boards established under WIA. ACWIA 2000 requires that each partnership designate a fiscal agent responsible for being the recipient of grant funds.

Under this announcement, only Local Boards (through their designated fiscal agents) and consortia of Local Boards may apply for and receive these grant awards. This requirement does not prevent the participation of other partners or concerned entities, which are integral to the process of planning for and conducting skills training in skills shortage areas. As noted earlier under Supplementary Information, successful applicants under earlier H-1B solicitations are eligible to apply for grants under this competition. Current awardees must indicate how their new proposals can provide a different approach or scope to skills training given program improvements developed under the current award.

Applicants are encouraged to collaborate with entities that possess a sound grasp of the job market in the region and are in a position to address the issue of skill shortage occupations. These entities include organizations such as private, for-profit businesses—including small and medium-size businesses; business, trade, or industry associations such as local Chambers of Commerce and small business federations; and labor unions. These partners should include businesses and business associations, which have experienced first hand the problems of coping with skill shortages and which employ workers engaged in skill shortage occupations.

This notice will not prescriptively define the roles of individual entities within the partnership beyond requiring that the Local Boards or consortia be the applicant and designate a fiscal agent for receiving grant funds, as stated in ACWIA 2000. The applicant's proposal is expected to provide a detailed discussion of participating organizations' respective responsibilities.

Based on ETA's experience, regional partnerships that actively engage a wide range of participation from community groups—particularly with strong private employer involvement—appear to be more successful. Consortia of Local Boards representing more than one area that share common economic goals may join together as one applicant rather than applying individually.

The application must clearly identify the applicant (or the fiscal agent), the grant recipient (and/or fiscal agent), and describe its capacity to administer this project. It must also indicate that the project is consistent with and will be coordinated with the activities of the relevant Local Board or Boards and with the other partners in the workforce investment system(s) that are involved in technical skills activities in the relevant region(s).

According to Section 18 of the Lobbying Disclosure Act of 1995, an organization described in Section 501 (c) (4) of the Internal Revenue Code of 1986 that engages in lobbying activities will not be eligible for the receipt of federal funds constituting an award, grant, or loan.

Note: Except as specifically provided in this Notice, DOL/ETA's acceptance of a proposal and an award of federal funds to sponsor any program(s) does not provide a waiver of any grant requirements and/or procedures. For example, the OMB Circulars require and an entity's procurement procedures must require that all procurement transactions are conducted, as much as practical, to provide open and free competition. If a proposal identifies a specific entity to provide services, the DOL/ETA's award does not provide the justification or basis to sole-source the procurement, i.e., it does not authorize the applicant to avoid competition when procuring these services.

Part IV of this announcement identifies the criteria that will be used to rate applicant submissions. These criteria and point value are:

Criterion | Points
A. Statement of Need | 10
B. Level of Training and Service Delivery Strategy | 25
C. Target Population | 10
D. Sustainability | 15
E. Linkages with Key Partners | 15
F. Outcomes, Management and Cost Effectiveness | 25
Total Possible Points | 100

B. Submission of Proposals

Applicants must submit four (4) copies of their proposal, with original signatures. The proposal must consist of two (2) separate and distinct parts, Parts I and II.

Part I of the proposal must contain the Standard Form (SF) 424, “Application for Federal Assistance” (Appendix C) and the Budget Information Form (Appendix D). Upon confirmation of an award, the individual signing the SF 424 on behalf of the applicant shall represent the responsible financial and administrative entity.

In preparing the Budget Information form, the applicant must provide a concise narrative explanation to support the request. The statutory language of ACWIA 2000 is specific in stating that grant resources are to be expended for programs or projects to provide technical skills training. An illustrative, but not exclusive, list of allowable and allocable types of administrative costs is provided in the WIA regulations at 20 CFR 667.200. In general, however, this grant does not contemplate or permit the purchase of capital equipment. The budget narrative should discuss precisely how the administrative costs support the project goals.

Part II must contain a technical proposal that demonstrates the applicant's capabilities in accordance with the Statement of Work. A grant application is limited to twenty-five (25) double-spaced, single-sided, 8.5 inch x 11 inch pages with one-inch margins. The applicant may provide resumes, a staffing pattern, statistical information and related material in attachments, which may not exceed fifteen (15) pages. Although not required, letters of commitment from partners or from those providing matching resources may be submitted as attachments. Such letters will not count against the allowable maximum page total. The applicant must briefly itemize those participating entities in the text of the proposal. Text type shall be 12 point or larger. Applications that do not meet these requirements will not be considered. Each application must include a Time Line outlining project activities and an Executive Summary that is not to exceed two pages. The Time Line and the Executive Summary do not count against the 25-page limit. No cost data or reference to prices should be included in the technical proposal.

C. Hand Delivered Proposals

Hand delivered proposals will be received at the address identified above. Telegraphed and/or faxed proposals will not be accepted. Failure to adhere to the administrative instructions pertaining to Submission of Proposals (contained in Section B) and Delivery of Proposals (contained in Section C) will be considered as non-responsive.

D. Period of Performance

The initial period of performance will be up to 36 months from the date of execution of the grant documents. It is anticipated that individual awards will not exceed $3,000,000. ETA may elect to exercise its option for a no-cost extension for these grants for an additional period not to exceed 12 months, based on the success of the program and other relevant factors.

Part IV—Review Process & Rating Criteria

A. The Review Process

Applications for the H-1B technical skills training grants will be accepted continuously after the publication of this announcement until further notice. Technical review panels will meet periodically on an as-needed basis, given the number of applications and the availability of funds.

The technical review panel will make careful evaluation of applications against the criteria below. Final funding decisions will be based on the rating of applications as a result of the review process, and other factors such as statutory requirements (urban/rural balance, geographic balance, the requirement that at least 80 percent of funds be awarded for high technology, information technology, and biotechnology occupational training and that not more than 20 percent of funds be available for training in any single specialty occupation), availability of funds, and what is most advantageous to the Government. The panel results are advisory in nature and not binding on the Grant Officer. The Government may elect to award the grant(s) with or without discussions with the offeror(s). In situations without discussions, an award will be based on the offeror(s) signature on the SF 424, which constitutes a binding offer.

The rated applications will be placed in the following categories:

(1) If the application receives a rating of 80 and above, it will be placed on an eligible to be funded list. The applicant will remain on this list for 9 months before resubmittal is required. Applicants in this category may require further discussions. Inclusion on this list is not a guarantee of funding.

(2) If the application receives a rating of 79 or below, the applicant will be eligible to receive technical assistance through group workshops in areas such as:

• Grant Writing

• Partnership Building/Linkages

• Administrative Requirements

• Service Delivery Strategies

(3) Those applications receiving a rating of 70-79 will also be eligible to receive additional individualized technical assistance.

All applicants will receive written notice of their rating which will include a summary of their strengths and weaknesses in the application at the conclusion of the review process.

B. Rating Criteria

Applications will be rated on how completely they respond to the criteria set forth below, and how responsive they are to the policy goals and emphases set forth in Part II of this document.

1. Statement of Need (10 points)

ACWIA 2000 is a response to high technology skill shortages around the country in specific occupations. The most recent H-1B occupation data are provided as an attachment to this solicitation. Applicants should clearly describe the local area or region for which services are to be provided and the high technology skill shortages prevalent in the geographic area and region.

Applicants are encouraged to utilize all available data resources to ensure that their descriptions of need are relevant to local and regional labor market shortages. Information can include, but is not limited to: statistical information from Federal government sources, state labor market information, H-1B applications, newspaper want ads, expressed employer hiring demands, and information from the One-Stop system, in responding to this criterion. Descriptive items about the local area or region, such as rural or urban, should be included. (What high technology needs and opportunities exist in the region? What are the particular characteristics of the local political, economic and administrative jurisdictions—Local Boards, labor market areas, or special district authorities—that led them to associate for the purpose of this application?)

A general description of the local area or region should include socioeconomic data, with a particular focus on the general education and skill levels prevalent in the area. Applicants are encouraged to include information such as transportation patterns, and statistical and demographic information (e.g., age and income data). Other germane questions that will provide greater depth of description include: What is the general business environment? What industries and occupations are growing and declining? What types of skills are being sought in the geographic area or region by the major employers in general, and the partnership member companies, in particular? Data from local and regional employers relating to the use of H-1B visas to import foreign workers to meet their high technology skill needs will be of special help in demonstrating high technology training needs.

2. Level of Training and Service Delivery Strategy (25 points)

Applicants must lay out the comprehensive strategy proposed for providing the technical skills training that is mandated as the core activity of these grant awards. Applicants shall describe a service delivery strategy that provides training at or leading to an H-1B level skill. Part 1C of this SGA spells out very clearly DOL's strong interest in achieving a higher level of training than has occurred in some H-1B grants, to a level that clearly prepares individuals to meet the H-1B visa definition of “theoretical and practical application of a body of specialized knowledge.” A discussion of the impact of skills training in response to the identified skill shortages of the region should be included. Since the H-1B skill level is at the Bachelor degree level or above, training may include formal education. Specific issues that must be addressed as part of this section include:

• The range and identity of potential training providers, including identifying whether they are on the eligible training provider list as described in WIA, section 122, the types of skills training that will be offered, how the training will meet the local area or regional skills needs, and how the training will be provided.

• The targeted occupations and skill level and how the skill upgrading will be measured. If degrees and/or certificates are contemplated, the type and recognition authority should be described as well as an estimate of the number and type to be attained.

• What steps will be taken to reach out to the community(ies) to provide information about the project and planned training activities.

• How will the types of training planned for project participants be determined.

Training at a sufficiently high skill level will be an important factor in this criterion. If career ladder training is proposed, the applicant must provide adequate detail demonstrating that all rungs of the ladder lead to H-1B training at the top rung and that it is reasonably likely that the majority of individuals on the ladder will complete the highest rungs of H-1B level training under the H-1B Technical Skills Training Grant.

Innovation in the context of service delivery is also considered essential and is a basic principle of H-1B Technical Skills Training Grants and can represent a wide variety of approaches and techniques. Innovation may be implemented in the manner in which training services are provided, e.g., distance learning to provide instruction, interactive video self-instructional materials, and flexible class scheduling (sections of the same class scheduled at different times of the day to accommodate workers whose schedules fluctuate). Creativity in developing the service strategy is also encouraged. The service delivery strategy must meet the needs of business partners, providing skills identified in the statement of need. Evidence should be provided that business partners have been involved in developing the training service delivery plan. The service delivery strategy should also effectively reach out to and meet needs of the target population, i.e., desired candidates are recruited and training conducted in such a manner that participants can attend without undo hardship (training during workday, on weekends and/or through distance learning methods). Applicants should fully describe any innovative and creative approaches contemplated.

3. Target Population (10 points)

The eligibility criteria for skills training enumerated in ACWIA 2000 are extremely broad and include employed and unemployed workers. This section should clearly identify the targeted workers, including their characteristics and explain why they are targeted. A discussion of what assessment procedures are to be used to ensure that the targeted individuals are qualified for the training and have a high likelihood of successful completion of the training is critical. The applicant should address some specific issues relating to the target worker population such as:

• How many employed workers and unemployed workers will be targeted for services and why?

• What are the technical skills training needs of those workers to fulfill skill shortage occupations at the H-1B level? Note that employers' needs should be addressed in Statement of Need.

• It is extremely important that the selection process for workers, both employed and unemployed, be carefully described to make it clear how those individuals will be determined to possess the capacity after the completion of training to accept jobs that previously were filled via the H-1B visa process, or could be filled at the H-1B level. In the case of both incumbent workers and unemployed workers, there needs to be an extensive discussion of the criteria to be used to assess and enroll individuals. Applicants shall describe how members of the target population will be selected and the technical skills training needs of the target population in such a way as to verify that H-1B level training is actually required, especially in the case of incumbent workers. Applicants shall describe the assessment tools used to ensure that proposed trainees are able to complete H-1B level training, in terms of ability and educational preparation. Note that trainees must possess a fairly advanced skills set prior to the start of H-1B training, i.e., they should be capable of pursuing training at the college level.

• What is the business partners' involvement in the selection of candidates?

• What is the targeted education and skill level of trainees as they enter the program?

4. Sustainability (15 points)

Sustainability refers to the continuation of the partnership based on the strength of that partnership and the ability of the training program to deliver value to employers. Applicants must demonstrate that they will meet the statutory requirement to provide a 50 percent match to the resources for proposed projects. Matches may either be in-cash or in-kind and federal resources cannot be counted towards the matching requirement. Applicants must describe to what extent the partners provide matching funds or services and how this contribution assists in building the foundation for a long-term partnership, i.e., sustainability. Matching resources and partnerships are considered an integral element of the project, as they support and strengthen the quality of the technical skills training provided and contribute materially toward sustainability. This section MUST contain a detailed discussion of the size, nature, and quality of the non-federal match and how the match will be used to further the goals of the project. Proposals not presenting a detailed discussion of the non-federal match or not meeting the statutory 50 percent match requirement will be considered non-responsive and will not be considered.

Technical Skills Training Grant resources are limited to raising the skill levels of individuals to fill high skills H-1B occupations. Applicants will be given preference for identifying other resources both federal and non-Federal, because they can contribute materially toward quality outcomes and sustainability. (Note that although federal resources may not be counted as match, they may be counted to demonstrate the project sustainability.) Applicants are also encouraged to establish relationships with State Workforce Investment Boards and relevant state agencies, as they may provide valuable assistance and resources that can contribute to the success of a proposed project. Applicants should enumerate these resources in this section to support their discussion of sustainability and also describe any specific existing contractual commitments. The sustainability issue can be addressed by providing concrete evidence that training activities of the partnership will be continued after the expiration date of the grant by using other public or private resources.

5. Linkages With Key Partners (15 points)

The application must show the partnership required by Section 111(c)(2)(A)(i) of ACWIA 2000 (a Local Board or consortium of Local Boards; one community-based organization, higher education institution, or labor union; and one business or business-related nonprofit organization such as a trade association). ETA encourages, and will be looking for, applications that go beyond the minimum requirements of the statute and show broader, expected long-term partnerships. The applicant should identify the partners and how they will interact together, i.e., what role each will play and what resources each partner will offer. In particular, this section should identify partnerships with the private and public sectors, including ties with small- and medium-sized businesses and small business federations. In addition, the proposal should include a description of any coordination and consultation activities with the applicable state workforce agency and/or Governor's office or state Workforce Investment Board. Evidence of such coordination and/or consultation such as written documentation should be included in the application. The Service Delivery Strategy section of the Statement of Work describes the role of each of the actors in delivering the proposed services, while this section is intended to look at the linkages from a more structural perspective with particular emphasis on the employers in the consortium that are experiencing skills shortages and have hiring or upgrading needs.

ETA also is interested in the extent of the involvement of small businesses in the partnership. Consideration will be given to any partnership that involves and directly benefits more than one small business (each consisting of 100 employees or less).

6. Outcomes, Management and Cost Effectiveness (25 points)

This criterion includes three areas: (a) Program and training outcomes, (b) project and grant management, and (c) cost effectiveness. Applicants must describe the predicted outcomes resulting from this training. It is estimated that the projected results will be somewhat varied given the mix of people who will be served. Success can be determined through placements in H-1B skills shortage occupations, increased wages, or skills attainment in H-1B occupations, or in training for or placement in positions on a defined career ladder directly leading toward such skills attainment.

For unemployed workers, outcomes will be viewed in terms of gaining new employment and enhanced skills attainment in, or on the ladder to H-1B skill shortage occupations.

Outcomes for employed workers may be at a somewhat higher level than for those unemployed workers who do not possess similar skills at the outset. Because of the differing skill levels and backgrounds of participants in an H-1B training program, the outcomes section should discuss gains attained for individual participants in context of their backgrounds and skill levels when they entered. Therefore, the focus of the discussion in this section should emphasize very specifically the benefits that occur because of the training. For example, an applicant might state that a certain skill level is projected for a given group and indicate what change in skills that represents and how that might translate into an increase in earnings.

As noted in Level of Training and Service Delivery Strategy above, the application must identify what occupations will be trained for under this grant. Please identify each occupation in terms of skills in high technology, information technology and biotechnology, including skills needed for software and communication services, telecommunications, systems installation and integration, computers and communications hardware, advanced manufacturing, health care technology, bio-technology and biomedical research and manufacturing and innovation services.

Applicants should indicate how they plan to achieve one or more of the following outcome goals upon successful completion of a training program:

(1) The hiring of unemployed trainees (if applicable);

(2) Increases in the wages or salaries of already employed trainees (if applicable); and

(3) Awards of educational degrees, credit toward degrees, skill certifications to trainees or links the trainees to industry-accepted occupational skill standards, certificates or licensing requirements.

Management includes qualifications and experience of proposed staff and related areas. Applicants should include a description of the organizational structure and processes and automated system to be used for managing the project, collecting project data, monitoring and tracking progress, responding to issues and problems, and producing relevant reports for both the grantee and DOL.

Applicants will provide a detailed discussion of the expected cost effectiveness of their proposal in terms of the expected cost per participant compared to the expected benefits for these participants. Applicants should address the employment outcomes, placement, increased salary, promotion or retention and the levels of skills to be achieved (such as attaining state licensing in an occupation) relative to the amount of training that the individual needed to receive to achieve those outcomes. Benefits can be described both qualitatively in terms of skills attained, including degrees and certificates attained, and quantitatively in terms of wage gains. Costs must be justified in relation to cost per participant and, when possible, contrast with similar costs for training conducted elsewhere. Cost effectiveness may be demonstrated in part by cost per participant and cost per activity in relation to the level and duration of services provided and outcomes to be attained; the applicant's expectations regarding these measures should be included.

Signed in Washington, DC, this 31st day of December 2002.
Laura Cesario,
Grant Officer.

Appendix A: Legislative Mandate

Appendix B—H-1B Petitions Approved in Fiscal Year 2001 for Top 10 Major Occupational Groups and Top 23 Detailed Occupations, Source: INS, July 2002

Appendix C: (SF) 424—Application Form

Appendix D: Budget Information Form

Appendix E: Project Profile Information (completed by applicant)

Appendix A—Legislative Mandate

(1) ACWIA and ACWIA 2000

The relevant portions of ACWIA 2000 dealing with the establishment of a fund for implementing a program of H-1B skills training grants are as follows:

“Section 286(s)—H-1B Nonimmigrant Petitioner Account (As Amended)

(1) In General—There is established in the general fund of the Treasury a separate account, which shall be known as the ‘H-1B Nonimmigrant Petitioner Account.' Notwithstanding any other section of this title, there shall be deposited as offsetting receipts into the account all fees collected under 8 U.S.C. 1184 (c)(9)(section 214(c)(9)).

(2) Use of Fees for Job Training—55 percent of amounts deposited into the H-1B Nonimmigrant Petitioner Account shall remain available to the Secretary of Labor until expended for demonstration programs and projects described in section 414(c) of the American Competitiveness and Workforce Improvement Act of 1998.”

“SEC. 111. Demonstration Programs and Projects To Provide Technical Skills Training for Workers.

Section 414(c) of the American Competitiveness and Workforce Improvement Act of 1998 (as contained in title IV of division C of Public Law 105-277; 112 Stat. 2681-653) is amended to read as follows:

(c) Demonstration Programs and Projects To Provide Technical Skills Training for Workers.—

(1) In General.—

(A) Funding.—The Secretary of Labor shall use funds available under section 286(s)(2) of the Immigration and Nationality Act (8 U.S.C. 1356(s)(2)) to establish demonstration programs or projects to provide technical skills training for workers, including both employed and unemployed workers.

(B) Training Provided.—Training funded by a program or project described in subparagraph (A) shall be for persons who are currently employed and who wish to obtain and upgrade skills as well as for persons who are unemployed. Such training is not limited to skills levels commensurate with a four-year undergraduate degree, but should include the preparation of workers for a broad range of positions along a career ladder. Consideration shall be given to the use of grant funds to demonstrate a significant ability to expand a training program or project through such means as training more workers or offering more courses, and training programs or projects resulting from collaborations, especially with more than one small business or with a labor-management training program or project. The need for the training shall be justified through reliable regional, state, or local data.

(2) Grants.—

(A) Eligibility.— To carry out the programs and projects described in paragraph (1)(A), the Secretary of Labor shall, in consultation with the Secretary of Commerce, subject to the availability of funds in the H-1B Nonimmigrant Petitioner Account, award—

(i) 75 percent of the grants to a local workforce investment board established under section 116(b) or section 117 of the Workforce Investment Act of 1998 (29 U.S.C. 2832) or consortia of such boards in a region. Each workforce investment board or consortia of boards receiving grant funds shall represent a local or regional public-private partnership consisting of at least—

(I) one workforce investment board;

(II) one community-based organization or higher education institution or labor union; and

(III) one business or business-related non-profit organization such as a trade association: Provided, That the activities of such local or regional public-private partnership described in this subsection shall be conducted in coordination with the activities of the relevant local workforce investment board or boards established under the Workforce Investment Act of 1998 (29 U.S.C. 2832); and

(ii) 25 percent of the grants under the Secretary of Labor's authority to award grants for demonstration projects or programs under section 171 of the Workforce Investment Act (29 U.S.C. 2916) to partnerships that shall consist of at least 2 businesses or a business-related nonprofit organization that represents more than one business, and that may include any educational, labor, community organization, or workforce investment board, except that such grant funds may be used only to carry out a strategy that would otherwise not be eligible for funds provided under clause (i), due to barriers in meeting those partnership eligibility criteria, on a national, multi state, regional, or rural area (such as rural telework programs) basis.

(B) Designation of Responsible Fiscal Agents.— Each partnership formed under subparagraph (A) shall designate a responsible fiscal agent to receive and disburse grant funds under this subsection.

(C) Partnership Considerations.—Consideration in the awarding of grants shall be given to any partnership that involves and directly benefits more than one small business (each consisting of 100 employees or less).

(D) Allocation of Grants.—In making grants under this paragraph, the Secretary shall make every effort to fairly distribute grants across rural and urban areas, and across the different geographic regions of the United States. The total amount of grants awarded to carry out programs and projects described in paragraph (1)(A) shall be allocated as follows:

(i) At least 80 percent of the grants shall be awarded to programs and projects that train employed and unemployed workers in skills in high technology, information technology, and biotechnology, including skills needed for software and communications services, telecommunications, systems installation and integration, computers and communications hardware, advanced manufacturing, health care technology, biotechnology and biomedical research and manufacturing, and innovation services.

(ii) No more than 20 percent of the grants shall be available to programs and projects that train employed and unemployed workers for skills related to any single specialty occupation, as defined in section 214(i) of the Immigration and Nationality Act.

(3) Start-Up Funds.—

(A) In General.—Except as provided in subparagraph (B), not more than 5 percent of any single grant, or not to exceed $75,000, whichever is less, may be used toward the start-up costs of partnerships or new training programs and projects.

(B) Exception.—In the case of partnerships consisting primarily of small businesses, not more than 10 percent of any single grant, or $150,000, whichever is less, may be used toward the start-up costs of partnerships or new training programs and projects.

(C) Duration of Start-Up Period.—For purposes of this subsection, a start-up period consists of a period of not more than 2 months after the grant period begins, at which time training shall immediately begin and no further Federal funds may be used for start-up purposes.

(4) Training Outcomes.—

(A) Consideration for Certain Programs and Projects.—Consideration in the awarding of grants shall be given to applicants that provide a specific, measurable commitment upon successful completion of a training course, to—

(i) hire or effectuate the hiring of unemployed trainees (where applicable);

(ii) increase the wages or salary of incumbent workers (where applicable); and

(iii) provide skill certifications to trainees or link the training to industry-accepted occupational skill standards, certificates, or licensing requirements.

(B) Requirements for Grant Applications.—Applications for grants shall—(i) articulate the level of skills that workers will be trained for and the manner by which attainment of those skills will be measured; (ii) include an agreement that the program or project shall be subject to evaluation by the Secretary of Labor to measure its effectiveness; and (iii) in the case of an application for a grant under subsection (c)(2)(A)(ii), explain what barriers prevent the strategy from being implemented through a grant made under subsection (c)(2)(A)(i).

(5) Matching Funds.—Each application for a grant to carry out a program or project described in paragraph (1)(A) shall state the manner by which the partnership will provide non-Federal matching resources (cash, or in-kind contributions, or both) equal to at least 50 percent of the total grant amount awarded under paragraph (2)(A)(i), and at least 100 percent of the total grant amount awarded under paragraph (2)(A)(ii). At least one-half of the non-Federal matching funds shall be from the business or businesses or business-related nonprofit organizations involved. Consideration in the award of grants shall be given to applicants that provide a specific commitment or commitments of resources from other public or private sources, or both, so as to demonstrate the long-term sustainability of the training program or project after the grant expires.

(6) Administrative Costs.—An entity that receives a grant to carry out a program or project described in paragraph (1)(A) may not use more than 10 percent of the amount of the grant to pay for administrative costs associated with the program or project.

(2)INA

The Immigration and Nationality Act (INA)(section 101(a)(15) (H)(i)(b))(8 U.S.C 1101 (a)(15)(H)(i)(B)) defines the H-1B alien as one “who is coming temporarily to the United States to perform services in a specialty occupation * * * or as a fashion model * * * ”

The INA (Section 214(i)) sets criteria to define the term “specialty occupation:”

(1) For purposes of section 1101(a)(15)(H)(i)(b) and paragraph 2, a “specialty occupation” means an occupation that requires—(A) theoretical and practical application of a body of highly specialized knowledge and,

(B) attainment of a bachelor's or higher degree in the specific specialty (or its equivalent) as a minimum for entry into the occupation in the United States.

(2) For purposes of section 1101(a)(15)(H)(i)(b)), the requirements of this paragraph with respect to a specialty occupation are—(A) full state licensure to practice in the occupation, if such licensure is required to practice in the occupation,

(B) completion of the degree described in paragraph (1)(B) for the occupation, or (C)(i) experience in the specialty equivalent to the completion of such degree, and (ii) recognition of expertise in the specialty through progressively responsible positions relating to the specialty.

Appendix B.—H-1B Petitions Approved in Fiscal Year 2001 for Top 10 Major Occupational Groups and Top 23 Detailed Occupations, Source: INS, July 2002
Occupations | Group rank | Detailed rank | LCA* code | Total | Percent
Computer-related | 1 |  | 03 | 191,397 | 58.0
Systems analysis and programming |  | 1 | 030 | 171,784 | 52.1
Occupations not elsewhere classified (n.e.c.) |  | 3 | 039 | 13,661 | 4.1
Data communications and networks |  | 17 | 031 | 2,618 | 0.8
Computer systems technical support |  | 18 | 033 | 2,590 | 0.8
Architecture, engineering and surveying | 2 |  | 00/01 | 40,388 | -2.2
Electrical/Electronics engineering | 2 |  | 003 | 15,356 | 4.7
Occupations n.e.c. |  | 6 | 019 | 8,404 | 3.4
Mechanical engineering |  | 10 | 007 | 4,815 | 1.5
Architectural |  | 15 | 001 | 2,937 | 0.9
Civil engineering |  | 19 | 005 | 2,534 | 0.8
Industrial engineering |  | 23 | 012 | 2,184 | 0.7
Administrative specializations | 3 |  | 16 | 23,794 | 7.2
Accountants, auditors and related occupations |  | 5 | 160 | 11,076 | 3.4
Occupations n.e.c. |  | 13 | 169 | 3,279 | 1.0
Budget and management systems |  | 14 | 161 | 3,245 | 1.0
Sales and distribution management |  | 21 | 163 | 2,415 | 0.7
Education | 4 |  | 09 | 17,431 | 5.3
College and university education |  | 4 | 090 | 12,183 | 3.7
Preschool, primary school and kindergarten education |  | 20 | 092 | 2,534 | 0.7
Managers and officials | 5 |  | 18 | 12,423 | 3.8
Miscellaneous n.e.c. |  | 7 | 189 | 6,864 | 2.1
Medicine and health | 6 |  | 07 | 11,334 | 3.4
Physicians and surgeons |  | 12 | 070 | 4,541 | 1.4
Occupations n.e.c. |  | 16 | 079 | 2,827 | 0.9
Life Sciences | 7 |  | 04 | 6,492 | 2.0
Biological Sciences |  | 11 | 041 | 4,813 | 1.5
Social Sciences | 8 |  | 05 | 6,145 | 1.9
Economics |  | 8 | 050 | 5,733 | 1.7
Mathematics and physical sciences | 9 |  | 02 | 5,772 | 1.7
Chemistry |  | 22 | 022 | 2,360 | 0.7
Miscellaneous professional, technical & managerial | 10 |  | 19 | 5,662 | 1.7
Occupations n.e.c. |  | 9 | 199 | 5,106 | 1.5
*Labor Condition Application code

Appendix E—Project Profile Information

Applicant Name:

Project Title:

Occupations and Number of individuals to be Trained [list]:

Level of Training:

a. Pre-career ladder___

b. Lower career ladder___

c. Mid-career ladder___

d. H-1B visa level (bachelor's degree or equivalent, professionally recognized certificate training)___

Note: Pre-Career Ladder training refers to training that is meant to prepare someone for development along a career path. This may include basic literacy classes, GED classes, basic computer skills training, ESL education, or other low level training that in and of itself will not prepare the student to hold a job on an H-1B level career ladder. Lower career ladder and mid-career level training is more advanced than pre-career ladder but still constitutes foundation preparation rather than training specifically addressing a specialty occupation at the H-1B visa level. The H-1B visa level requires “a theoretical and practical application of a body of highly specialized knowledge and attainment of a bachelor's or higher degree in the specialty.”

Targeted Population:

a. Incumbent workers___

b. Unemployed workers___

Note: incumbent workers are those currently employed by a specific company or business. Unemployed workers are those workers not currently employed, but still part of the labor force.

Geographic area served:

a. Rural___

b. Urban___

Note: A general delineation of urban/rural is whether the geographic area served in within a Metropolitan Statistical Area (MSA). If within a MSA, the area is considered urban, otherwise, rural.

Degrees/certificates expected [list by type. name and number]:

[FR Doc. 03-193 Filed 1-3-03; 8:45 am]

BILLING CODE 4510-30-P